DEPARTMENT OF THE INTERIOR

Fish and Wildlife Service

50 CFR Part 17

[FXES1111090FEDR-245-FF09E21000]

Endangered and Threatened Wildlife and Plants; 90-Day Findings for 8 Species

AGENCY: Fish and Wildlife Service, Interior.

ACTION: Notification of petition findings and initiation of status reviews.

SUMMARY: We, the U.S. Fish and Wildlife Service (Service), announce 90-day findings on eight petitions to add species to the Lists of Endangered and Threatened Wildlife and Plants under the Endangered Species Act of 1973, as amended (Act). Based on our review, we find that the petitions to list the Crater Lake newt (Taricha granulosa mazamae), Florida intertidal firefly (Micronaspis floridana), Iowa skipper (Atrytone arogos iowa), San Francisco Estuary population of white sturgeon (Acipenser transmontanus), and Tecopa bird's beak (Chloropyron tecopense) present substantial scientific or commercial information indicating that the petitioned actions may be warranted. Therefore, with the publication of this document, we announce that we are initiating status reviews of these species to determine whether the petitioned actions are warranted. To ensure that the status reviews are comprehensive, we request scientific and commercial data and other information regarding the species and factors that may affect their status. Based on the status reviews, we will issue 12-month petition findings, which will address whether or not the petitioned actions are warranted in accordance with the Act. We further find that the petitions to list Betta miniopinna, long-tailed macaque (Macaca fascicularis), and southern pig-tailed macaque (Macaca nemestrina) do not present substantial information indicating the petitioned action may be warranted. Therefore, we are not initiating status reviews of Betta miniopinna, long-tailed macaque, or southern pig-tailed macaque.

DATES: These findings were made on October 8, 2024. As we commence our status reviews, we seek any new information concerning the status of, or threats to, the Crater Lake newt, Florida intertidal firefly, Iowa skipper, San Francisco Estuary population of white sturgeon, and Tecopa bird's beak, or their habitats. Any information we receive during the course of our status reviews will be considered.

ADDRESSES:

Supporting documents: Summaries of the basis for the petition findings contained in this document are available on https://www.regulations.gov under the appropriate docket number (see tables under SUPPLEMENTARY INFORMATION). In addition, this supporting information is available by contacting the appropriate person, as specified in FOR FURTHER INFORMATION CONTACT.

Status reviews: If you have new scientific or commercial data or other information concerning the status of, or threats to, the Crater Lake newt, Florida intertidal firefly, Iowa skipper, San Francisco Estuary population of white sturgeon, or Tecopa bird's beak, or their habitats, please provide those data or information by one of the following methods listed below.

(1) Electronically: Go to the Federal eRulemaking Portal: https://www.regulations.gov. In the Search box, enter the appropriate docket number (see table 1 under SUPPLEMENTARY INFORMATION). Then, click on the “Search” button. After finding the correct document, you may submit information by clicking on “Comment.” If your information will fit in the provided comment box, please use this feature of https://www.regulations.gov, as it is most compatible with our information review procedures. If you attach your information as a separate document, our preferred file format is Microsoft Word. If you attach multiple comments (such as form letters), our preferred format is a spreadsheet in Microsoft Excel.

(2) By hard copy: Submit by U.S. mail to: Public Comments Processing, Attn: [Insert appropriate docket number; see table 1 under SUPPLEMENTARY INFORMATION], U.S. Fish and Wildlife Service, MS: PRB/3W, 5275 Leesburg Pike, Falls Church, VA 22041-3803.

We request that you send information only by the methods described above. We will post all information we receive on https://www.regulations.gov. This generally means that we will post any personal information you provide us (see Information Submitted for a Status Review, below).

FOR FURTHER INFORMATION CONTACT:

Species common name | Contact person
Betta miniopinna | Rachel London, Manager, Branch of Delisting and Foreign Species, Ecological Services Headquarters, 703-358-2491, rachel_london@fws.gov.
Crater Lake newt | Jennie Land, Field Supervisor, Klamath Falls Fish and Wildlife Office, 541-885-8481, jennie_land@fws.gov.
Florida intertidal firefly | Lourdes Mena, Classification and Recovery Division Manager, Florida Ecological Services Office, 904-731-3134, lourdes_mena@fws.gov.
Iowa skipper | Jason Luginbill, Project Leader, Kansas Ecological Services Field Office, 785-313-0772, jason_luginbill@fws.gov.
Long-tailed macaque | Rachel London, Manager, Branch of Delisting and Foreign Species, Ecological Services Headquarters, 703-358-2491, rachel_london@fws.gov.
San Francisco Estuary population of white sturgeon | Donald Ratcliff, Field Supervisor, San Francisco Bay-Delta Fish and Wildlife Office, 916-930-5632, donald_ratcliff@fws.gov.
Southern pig-tailed macaque | Rachel London, Manager, Branch of Delisting and Foreign Species, Ecological Services Headquarters, 703-358-2491, rachel_london@fws.gov.
Tecopa bird's beak | Scott Sobiech, Field Supervisor, Carlsbad Fish and Wildlife Office, 760-431-9440, scott_sobiech@fws.gov.

Individuals in the United States who are deaf, deafblind, hard of hearing, or have a speech disability may dial 711 (TTY, TDD, or TeleBraille) to access telecommunications relay services. Individuals outside the United States should use the relay services offered within their country to make international calls to the point-of-contact in the United States.

SUPPLEMENTARY INFORMATION:

Information Submitted for a Status Review

You may submit your comments and materials concerning the status of, or threats to, the Crater Lake newt, Florida intertidal firefly, Iowa skipper, San Francisco Estuary population of white sturgeon, or Tecopa bird's beak, or their habitats, by one of the methods listed in ADDRESSES. We request that you send comments only by the methods described in ADDRESSES. Please include sufficient information with your submission (such as scientific journal articles or other publications) to allow us to verify any scientific or commercial information you include.

If you submit information via https://www.regulations.gov, your entire submission—including any personal identifying information—will be posted on the website. If your submission is made via a hardcopy that includes personal identifying information, you may request at the top of your document that we withhold this information from public review. However, we cannot guarantee that we will be able to do so. We will post all hardcopy submissions on https://www.regulations.gov.

Comments and materials we receive, as well as supporting documentation we used in preparing these findings, will be available for public inspection on https://www.regulations.gov.

Background

Section 4 of the Act (16 U.S.C. 1533) and its implementing regulations in title 50 of the Code of Federal Regulations (50 CFR part 424) set forth the procedures for adding species to, removing species from, or reclassifying species on the Federal Lists of Endangered and Threatened Wildlife and Plants (Lists or List) in 50 CFR part 17. Section 4(b)(3)(A) of the Act requires that we make a finding on whether a petition to add a species to the List (i.e., “list” a species), remove a species from the List (i.e., “delist” a species), or change a listed species' status from endangered to threatened or from threatened to endangered (i.e., “reclassify” a species) presents substantial scientific or commercial information indicating that the petitioned action may be warranted. To the maximum extent practicable, we are to make this finding within 90 days of our receipt of the petition and publish the finding promptly in the Federal Register.

Our regulations establish that substantial scientific or commercial information with regard to a 90-day petition finding refers to credible scientific or commercial information in support of the petition's claims such that a reasonable person conducting an impartial scientific review would conclude that the action proposed in the petition may be warranted (50 CFR 424.14(h)(1)(i)). A positive 90-day petition finding does not indicate that the petitioned action is warranted; the finding indicates only that the petitioned action may be warranted and that a full review should occur.

A species may be determined to be an endangered species or a threatened species because of one or more of the five factors described in section 4(a)(1) of the Act (16 U.S.C. 1533(a)(1)). The five factors are:

(a) The present or threatened destruction, modification, or curtailment of its habitat or range (Factor A);

(b) Overutilization for commercial, recreational, scientific, or educational purposes (Factor B);

(c) Disease or predation (Factor C);

(d) The inadequacy of existing regulatory mechanisms (Factor D); and

(e) Other natural or manmade factors affecting its continued existence (Factor E).

These factors represent broad categories of natural or human-caused actions or conditions that could have an effect on a species' continued existence. In evaluating these actions and conditions, we look for those that may have a negative effect on individuals of the species, as well as other actions or conditions that may ameliorate any negative effects or may have positive effects.

We use the term “threat” to refer in general to actions or conditions that are known to, or are reasonably likely to, affect individuals of a species negatively. The term “threat” includes actions or conditions that have a direct impact on individuals (direct impacts), as well as those that affect individuals through alteration of their habitat or required resources (stressors). The term “threat” may encompass—either together or separately—the source of the action or condition, or the action or condition itself. However, the mere identification of any threat(s) may not be sufficient to compel a finding that the information in the petition is substantial information indicating that the petitioned action may be warranted. The information presented in the petition must include evidence sufficient to suggest that these threats may be affecting the species to the point that the species may meet the definition of an endangered species or threatened species under the Act.

If we find that a petition presents such information, our subsequent status review will evaluate all identified threats by considering the individual-, population-, and species-level effects and the expected response by the species. We will evaluate individual threats and their expected effects on the species, then analyze the cumulative effect of the threats on the species as a whole. We also consider the cumulative effect of the threats in light of those actions and conditions that are expected to have positive effects on the species—such as any existing regulatory mechanisms or conservation efforts that may ameliorate threats. It is only after conducting this cumulative analysis of threats and the actions that may ameliorate them, and the expected effect on the species now and in the foreseeable future, that we can determine whether the species meets the definition of an endangered species or threatened species under the Act.

If we find that a petition presents substantial scientific or commercial information indicating that the petitioned action may be warranted, the Act requires that we promptly commence a review of the status of the species, and we will subsequently complete a status review in accordance with our prioritization methodology for 12-month findings (81 FR 49248; July 27, 2016).

We note that designating critical habitat is not a petitionable action under the Act. Petitions to designate critical habitat (for species without existing critical habitat) are reviewed under the Administrative Procedure Act (5 U.S.C. 551 et. seq.) and are not addressed in this finding (see 50 CFR 424.14(j)). To the maximum extent prudent and determinable, any proposed critical habitat will be addressed concurrently with a proposed rule to list a species, if applicable.

Summaries of Petition Findings

The petition findings contained in this document are listed in the tables below, and the basis for each finding, along with supporting information, is available on https://www.regulations.gov under the appropriate docket number.

Table 1—Internet Search Information for Substantial Findings for Five Species
Common name | Docket No. | URL to docket on https://www.regulations.gov
Crater Lake newt | FWS-R8-ES-2024-0025 | https://www.regulations.gov/docket/FWS-R8-ES-2024-0025
Florida intertidal firefly | FWS-R4-ES-2024-0026 | https://www.regulations.gov/docket/FWS-R4-ES-2024-0026
Iowa skipper | FWS-R6-ES-2023-0226 | https://www.regulations.gov/docket/FWS-R6-ES-2023-0226
San Francisco Estuary population of white sturgeon | FWS-R8-ES-2024-0049 | https://www.regulations.gov/docket/FWS-R8-ES-2024-0049
Tecopa bird's beak | FWS-R8-ES-2023-0256 | https://www.regulations.gov/docket/FWS-R8-ES-2023-0256

Table 2—Internet Search Information for Not-Substantial Findings for Three Species
Common name | Docket No. | URL to docket on https://www.regulations.gov
Betta miniopinna | FWS-HQ-ES-2023-0229 | https://www.regulations.gov/docket/FWS-HQ-ES-2023-0229
Long-tailed macaque | FWS-HQ-ES-2023-0228 | https://www.regulations.gov/docket/FWS-HQ-ES-2023-0228
Southern pig-tailed macaque | FWS-HQ-ES-2023-0227 | https://www.regulations.gov/docket/FWS-HQ-ES-2023-0227

Evaluation of a Petition To List Betta miniopinna

Species and Range

Betta miniopinna; Bintan Island of the Riau Archipelago, Indonesia.

Petition History

On July 6, 2023, we received a petition dated July 5, 2023, from the Center for Biological Diversity and the Monitor Conservation Research Society, requesting that Betta miniopinna be emergency listed as a threatened species or an endangered species under the Act. The petition clearly identified itself as such and included the requisite identification information for the petitioner, required at 50 CFR 424.14(c). Listing a species on an emergency basis is not a petitionable action under the Act, and the question of when to list on an emergency basis is left to the discretion of the Service. If the Service determines that the standard for emergency listing in section 4(b)(7) of the Act is met, the Service may exercise that discretion to take an emergency listing action at any time. Therefore, we are considering the July 5, 2023, petition as a petition to list the B. miniopinna. This finding addresses the petition.

Finding

We reviewed the petition, sources cited in the petition, and other readily available information (within the constraints of the Act and 50 CFR 424.14(h)(1)). We considered the credible information that the petition provided regarding the individual and cumulative effects of threats that fall within factors under the Act's section 4(a)(1) as potentially ameliorated or exacerbated by any existing regulatory mechanisms or conservation efforts. Based on our review of the petition, sources cited in the petition, and other readily available information, we find that the petition does not provide substantial scientific or commercial information indicating that listing the B. miniopinna as a threatened species or an endangered species may be warranted.

The petitioner provided credible information indicating potential threats to individuals of the species due to habitat loss and degradation and collection and trade. The petitioner also provided credible information that the existing regulatory mechanisms may be inadequate to address those potential threats. Although the petition did provide credible information regarding deforestation at less than one percent per year countrywide, the reference investigated deforestation across the entire country and did not mention either peat swamp forest, the specific habitat type for the species, or Bintan Island, the only island the species is known to exist. Furthermore, the references provided in the petition that discussed peat swamp forests did not include Bintan Island, the island where B. miniopinna currently exists. The petition did not link this general deforestation to effects on the species. Therefore, the petition does not present credible information to support the claim that habitat loss and degradation is having a negative impact on the population(s) of the species.

Additionally, regarding trade, the petitioners only presented information from a brief Google search on the trade of the species. While this brief search presents evidence of some illegal trade in wild specimens of the species, without more thorough information on the amount of trade of wild-caught B. miniopinna and abundance estimates, the petition does not present credible information to support the claim that trade is having a negative impact on the population(s) of the species. Credible sources cited in the petition do not provide substantial information indicating that threats identified by the petitions may have synergistic or cumulative effects on the population such that the petitioned action may be warranted for B. miniopinna.

The basis for our finding on this petition and other information regarding our review of the petition can be found at https://www.regulations.gov under Docket No. FWS-HQ-ES-2023-0229 under the Supporting Documents section.

Evaluation of a Petition To List Crater Lake Newt

Species and Range

Crater Lake newt (Taricha granulosa mazamae); Crater Lake, Klamath County, Oregon.

Petition History

On November 28, 2023, we received a petition from the Center for Biological Diversity, requesting that the Crater Lake newt (Taricha granulosa mazamae) be emergency listed as an endangered species and critical habitat be designated for this species under the Act. The petition clearly identified itself as such and included the requisite identification information for the petitioner, required at 50 CFR 424.14(c). The petitioners additionally requested that the Service immediately protect Crater Lake newts with its emergency listing authority under 16 U.S.C. 1533(b)(7). Because the Act does not provide for petitions to emergency list, we are considering it as a petition to list the Crater Lake newt. Listing a species on an emergency basis is not a petitionable action under the Act, and the question of when to list on an emergency basis is left to the discretion of the Service. If the Service determines that the standard for emergency listing in section 4(b)(7) of the Act is met, the Service may exercise that discretion to take an emergency listing action at any time. This finding addresses the petition.

Finding

We reviewed the petition, sources cited in the petition, and other readily available information (within the constraints of the Act and 50 CFR 424.14(h)(1)). We considered the credible information that the petition provided regarding effects of the threats that fall within factors under the Act's section 4(a)(1) as potentially ameliorated or exacerbated by any existing regulatory mechanisms or conservation efforts. Based on our review of the petition and readily available information regarding predation by introduced species (particularly by signal crayfish (Pacifastacus leniusculus)) (Factor C), we find that the petition presents substantial scientific or commercial information indicating that listing the Crater Lake newt may be warranted. The petitioners also presented information suggesting habitat and food web alteration by signal crayfish, climate change, reduced effective population size, and range restriction may be threats to the Crater Lake newt. We will fully evaluate these potential threats during our 12-month status review, pursuant to the Act's requirement to review the best scientific and commercial information available when making that finding.

The basis for our finding on this petition and other information regarding our review of the petition can be found at https://www.regulations.gov under Docket No. FWS-R8-ES-2024-0025 under the Supporting Documents section.

Evaluation of a Petition To List Florida Intertidal Firefly

Species and Range

Florida intertidal firefly (Micronaspis floridana): Florida (Brevard, Broward, Charlotte, Citrus, Collier, Dixie, Hernando, Hillsborough, Indian River, Levy, Manatee, Miami-Dade, Monroe, Pasco, Pinellas, Saint Lucie, Sarasota, and Volusia Counties) and the Bahamas.

Petition History

On March 28, 2023, we received a petition from the Xerces Society for Invertebrate Conservation, requesting that the Florida intertidal firefly (Micronaspis floridana) be listed as an endangered species and critical habitat be designated for this species under the Act. The petition clearly identified itself as such and included the requisite identification information for the petitioner, required at 50 CFR 424.14(c). This finding addresses the petition.

Finding

We reviewed the petition, sources cited in the petition, and other readily available information (within the constraints of the Act and 50 CFR 424.14(h)(1)). We considered the credible information that the petition provided regarding the effects of threats that fall within factors under the Act's section 4(a)(1) as potentially ameliorated or exacerbated by any existing regulatory mechanisms or conservation efforts. Based on our review of the petition and readily available information regarding wetland destruction or loss and modified hydrology (Factor A), we find that the petition presents substantial scientific or commercial information indicating that listing the Florida intertidal firefly may be warranted. The petition also presented information on the following potential threats to Florida intertidal firefly: sea level rise, habitat fragmentation, modification of marsh and mangrove habitats for mosquito control, coastal eutrophication, harmful algal blooms, hypoxia, overutilization, nematode infection, predators, light pollution, pesticides, invasive species, small populations, ocean acidification impacts on prey, and increased temperature and extreme temperature events, and increased intensity and proportion of severe storms. We will fully evaluate these potential threats during our 12-month status review, pursuant to the Act's requirement to review the best scientific and commercial information available when making that finding.

The basis for our finding on this petition and other information regarding our review of the petition can be found at https://www.regulations.gov under Docket No. FWS-R4-ES-2024-0026 under the Supporting Documents section.

Evaluation of a Petition To List Iowa Skipper

Species and Range

Iowa skipper (Atrytone arogos iowa); mid-continent prairie in Arkansas, Colorado, Illinois, Iowa, Kansas, Minnesota, Missouri, Montana, Nebraska, North Dakota, Oklahoma, South Dakota, Texas, and Wyoming.

Petition History

On March 28, 2023, we received a petition from the Center for Food Safety, requesting that the Iowa Skipper (Atrytone arogos iowa) be listed as a threatened species or an endangered species under the Act. The petition clearly identified itself as such and included the requisite identification information for the petitioner, required at 50 CFR 424.14(c). This finding addresses the petition.

Finding

We reviewed the petition, sources cited in the petition, and other readily available information (within the constraints of the Act and 50 CFR 424.14(h)(1)). We considered the credible information that the petition provided regarding effects of the threats that fall within factors under the Act's section 4(a)(1) as potentially ameliorated or exacerbated by any existing regulatory mechanisms or conservation efforts. Based on our review of the petition and readily available information regarding habitat loss and fragmentation (Factor A) and prairie management (Factor A), we find that the petition presents substantial scientific or commercial information indicating that listing the Iowa skipper may be warranted. The petitioners also presented information suggesting pesticides, invasive species, climate change, and small, isolated populations may be threats to the Iowa skipper. We will fully evaluate these potential threats during our 12-month status review, pursuant to the Act's requirement to review the best scientific and commercial information available when making that finding.

The basis for our finding on this petition and other information regarding our review of the petition can be found at https://www.regulations.gov under Docket No. FWS-R6-ES-2023-0226 under the Supporting Documents section.

Evaluation of a Petition To List Long-Tailed Macaque

Species and Range

Long-tailed macaque (Macaca fascicularis); Brunei Darussalam, Cambodia, Hong Kong of China, Nicobar Islands of India, Indonesia, Lao People's Democratic Republic, Malaysia, Mauritius, Myanmar, Palau, Papua New Guinea, Philippines, Singapore, Thailand, Timor-Leste, and Vietnam.

Petition History

On April 12, 2023, we received a petition requesting that long-tailed macaque (Macaca fascicularis) be listed as a threatened species or an endangered species under the Act from People for the Ethical Treatment of Animals, Lisa Jones-Engel, Birutė Mary Galdikas, Jane Goodall, Action for Primates, Born Free USA, Sarah Kite, Nedim C. Buyukmihci, Angela Grimes, Liz Tyson-Griffin, The Macaque Coalition, Ecoflix, Ian Redmond, International Primate Protection League, Wildlife Alliance, Physicians Committee for Responsible Medicine, Michael Schillaci, One Voice, Abolición Vivisección, Sam Shanee, Gemunu de Silva, Northwest Animal Rights Network, Pam Mendosa, Phoenix Zones Initiative, Hope Ferdowsian, ACP, Nikhil Kulkarni, Neotropical Primate Conservation, EMS Foundation, Tim Ajax, Rise for Animals, Wildlife Friends Foundation Thailand, Douc Langur Foundation, Fundacion Entropika, Angela Maldonado, Animal Defenders International, World Animal Protection, Paula Pebsworth, and Japan Anti-Vivisection Association. The petition clearly identified itself as such and included the requisite identification information for the petitioner, required at 50 CFR 424.14(c). This finding addresses the petition.

Finding

We reviewed the petition, sources cited in the petition, and other readily available information (within the constraints of the Act and 50 CFR 424.14(h)(1)). We considered the credible information that the petition provided regarding the individual and cumulative effects of the threats that fall within factors under the Act's section 4(a)(1) as potentially ameliorated or exacerbated by any existing regulatory mechanisms or conservation efforts. Based on our review of the petition and readily available information regarding the effects of habitat loss and degradation (Factor A), collection and hunting (Factor B), disease (Factor C), and culling and sterilization (Factor E), we find that the petition does not provide substantial scientific or commercial information indicating that listing the long-tailed macaque as a threatened or an endangered species may be warranted. While we found that the petition provided documentation of negative impacts to individual macaques from these potential threats, the petition did not present credible information to support impacts to populations or the species as a whole due to these potential threats, either separately or cumulatively, such that the species may warrant listing.

The basis for our finding on this petition and other information regarding our review of the petition can be found at https://www.regulations.gov under Docket No. FWS-HQ-ES-2023-0228 under the Supporting Documents section.

Evaluation of a Petition To List San Francisco Estuary Population of White Sturgeon

Species and Range

White sturgeon [petitioned “San Francisco Estuary Distinct Population Segment”] (Acipenser transmontanus) (= San Francisco Estuary white sturgeon); Sacramento and San Joaquin Rivers in California.

Petition History

On December 6, 2023, we received a petition from San Francisco Baykeeper, The Bay Institute, Restore the Delta, and California Sportfishing Protection Alliance, requesting that the San Francisco Estuary white sturgeon population (Acipenser transmontanus) be listed as a threatened distinct population segment (DPS) and critical habitat be designated for this species under the Act. The petition clearly identified itself as such and included the requisite identification information for the petitioner, required at 50 CFR 424.14(c). This finding addresses the petition.

Finding

We reviewed the petition, sources cited in the petition, and other readily available information (within the constraints of the Act and 50 CFR 424.14(h)(1)). We considered the credible information that the petition provided regarding effects of the threats that fall within factors under the Act's section 4(a)(1) as potentially ameliorated or exacerbated by any existing regulatory mechanisms or conservation efforts. Based on our review of the petition and readily available information regarding harmful algal blooms (Factor E), we find that the petition presents substantial scientific or commercial information indicating that listing the San Francisco Estuary population of white sturgeon as a DPS may be warranted. The petitioners also presented information suggesting dams, water diversions, entrainment mortality, recreational harvest, poaching, pollution, climate change, proposed hatchery supplementation, ship strikes, and dredging may be threats to the San Francisco Estuary white sturgeon. We will fully evaluate these potential threats during our 12-month status review, pursuant to the Act's requirement to review the best scientific and commercial information available when making our 12-month finding.

The basis for our finding on this petition and other information regarding our review of the petition can be found at https://www.regulations.gov under Docket No. FWS-R8-ES-2024-0049 under the Supporting Documents section.

Evaluation of a Petition To List Southern Pig-Tailed Macaque

Species and Range

Southern pig-tailed macaque (Macaca nemestrina); Brunei Darussalam, Indonesia (Kalimantan, Sumatra), Malaysia (Peninsular Malaysia, Sabah, Sarawak), and Thailand.

Petition History

On April 12, 2023, we received a petition requesting that southern pig-tailed macaque (Macaca nemestrina) be listed as a threatened species or an endangered species under the Act from People for the Ethical Treatment of Animals, Lisa Jones-Engel (Ph.D.), Birute Mary Galdikas (Ph.D.), Jane Goodall (Ph.D.), Action for Primates, Born Free USA, Sarah Kite, Nedim Buyukmihci (Ph.D.), Angela Grimes, Liz Tyler-Griffin (Ph.D.), The Macaque Coalition, Ecoflix, Ian Redmond (Ph.D.), International Primate Protection League, Wildlife Alliance, the Physicians Committee for Responsible Medicine, Michael Schillaci (Ph.D.), One Voice, Abolicion Vivseccion, Sam Shanee (Ph.D.), Gemunu de Silva, Northwest Animal Rights Network, Pam Mendosa, Phoenix Zones Initiative, Hope Ferdowsian (Ph.D.), Nikhil Kulkarni (Ph.D.), Neotropical Primate Conservation, The EMS Foundation, Tim Ajax, Rise for Animals, Wildlife Friends Foundation Thailand, Douc Langur Foundation, Fundacion Entropika, Angela Maldonado (Ph.D.), Animal Defenders International, World Animal Protection, Paula Pebsworth, and The Japan Anti-Vivisection Association. The petition clearly identified itself as such and included the requisite identification information for the petitioner, required at 50 CFR 424.14(c). This finding addresses the petition.

Finding

We reviewed the petition, sources cited in the petition, and other readily available information (within the constraints of the Act and 50 CFR 424.14(h)(1)). We considered the credible information that the petition provided regarding the individual and cumulative effects of threats that fall within factors under the Act's section 4(a)(1) as potentially ameliorated or exacerbated by any existing regulatory mechanisms or conservation efforts. Based on our review of the petition, sources cited in the petition, and other readily available information, we find that the petition does not provide substantial scientific or commercial information indicating that listing the southern pig-tailed macaque as a threatened species or an endangered species may be warranted. While we found that the petition provided documentation of negative impacts to individual macaques from these potential threats, the petition did not present credible information to support impacts to populations or the species and the petition did not present credible information to support impacts to populations or the species as a whole due to these potential threats, either separately or cumulatively, such that the species may warrant listing.

The basis for our finding on this petition and other information regarding our review of the petition can be found at https://www.regulations.gov under Docket No. FWS-HQ-ES-2023-0227 under the Supporting Documents section.

Evaluation of a Petition To List Tecopa Bird's Beak

Species and Range

Tecopa bird's beak (Chrloropyron tecopense); Esmeralda and Nye Counties in Nevada and Inyo County in California.

Petition History

On September 26, 2023, we received a petition from the Center for Biological Diversity, requesting that Tecopa bird's beak (Chrloropyron tecopense) be listed as a threatened species or an endangered species and critical habitat be designated for this species under the Act. The petition clearly identified itself as such and included the requisite identification information for the petitioner, required at 50 CFR 424.14(c). This finding addresses the petition.

Finding

We reviewed the petition, sources cited in the petition, and other readily available information (within the constraints of the Act and 50 CFR 424.14(h)(1)). We considered the credible information that the petition provided regarding effects of the threats that fall within factors under the Act's section 4(a)(1) as potentially ameliorated or exacerbated by any existing regulatory mechanisms or conservation efforts. Based on our review of the petition and readily available information regarding hydrological alteration and groundwater extraction related to agriculture and exurban sprawl (Factor A), we find that the petition presents substantial scientific or commercial information indicating that listing the Tecopa bird's beak may be warranted. The petitioners also presented information suggesting off-road vehicles, non-native ungulate grazing, herbivory, climate change, and invasive species, as well as other potential effects from geothermal power production and mineral exploration and development, may be threats to the Tecopa bird's beak. We will fully evaluate these potential threats during our 12-month status review, pursuant to the Act's requirement to review the best scientific and commercial information available when making that finding.

The basis for our finding on this petition and other information regarding our review of the petition can be found at https://www.regulations.gov under Docket No. FWS-R8-ES-2023-0256 under the Supporting Documents section.

Conclusion

On the basis of our evaluation of the information presented in the petitions under section 4(b)(3)(A) of the Act, we have determined that the petitions summarized above for the Crater Lake newt, Florida intertidal firefly, Iowa skipper, San Francisco Estuary population of white sturgeon, and Tecopa bird's beak present substantial scientific or commercial information indicating that the petitioned actions may be warranted. We are, therefore, initiating status reviews of these species to determine whether the actions are warranted under the Act. At the conclusion of the status reviews, we will issue findings, in accordance with section 4(b)(3)(B) of the Act, as to whether the petitioned actions are not warranted, warranted, or warranted but precluded by pending proposals to determine whether any species is an endangered species or a threatened species. In addition, we have determined that the petitions summarized above for Betta miniopinna, long-tailed macaque, and southern pig-tailed macaque do not present substantial scientific or commercial information indicating that the petitioned actions may be warranted. We are, therefore, not initiating status reviews for these species in response to the petitions.

Authors

The primary authors of this document are staff members of the Ecological Services Program, U.S. Fish and Wildlife Service.

Authority

The authority for these actions is the Endangered Species Act of 1973, as amended (16 U.S.C. 1531 et seq.).

Martha Williams,
Director, U.S. Fish and Wildlife Service.

[FR Doc. 2024-22914 Filed 10-7-24; 8:45 am]

BILLING CODE 4333-15-P